INTERNATIONAL TRADE COMMISSION

[Investigation Nos. 701-TA-473 and 731-TA-1173 (Final)]

Certain Potassium Phosphate Salts From China

Determinations

On the basis of the record ¹ developed in the subject investigations, the United States International Trade Commission (Commission) determines, pursuant to sections 735(b) and 705(b) of the Tariff Act of 1930 (19 U.S.C. 1671d(b) and 1673d(b)) (the Act), that an industry in the United States is materially injured by reason of imports from China of certain potassium phosphate salts, specifically anhydrous dipotassium phosphate (“DKP”) and tetrapotassium pyrophosphate (“TKPP”), provided for in subheadings 2835.24.00 (DKP) and 2835.39.10 (TKPP) of the Harmonized Tariff Schedule of the United States, that have been found by the Department of Commerce (Commerce) to be sold in the United States at less than fair value (LTFV) and subsidized by the Government of China.

¹ The record is defined in sec. 207.2(f) of the Commission's Rules of Practice and Procedure (19 CFR 207.2(f)).

The Commission also determines that an industry producing anhydrous monopotassium phosphate (“MKP”), provided for in subheading 2835.24.00 of the Harmonized Tariff Schedule of the United States, is not materially injured or threatened with material injury, nor that the establishment of an industry is materially retarded, by reason of imports from China, that have been found by Commerce to be sold in the United States at LTFV and subsidized by the Government of China.

Background

On September 24, 2009, a petition was filed with the Commission and Commerce by ICL Performance Products LP, St. Louis, MO, and Prayon, Inc., Augusta, GA, alleging that an industry in the United States is materially injured or threatened with material injury by reason of LTFV and subsidized imports of DKP, MKP, sodium tripolyphosphate (“STPP”), and TKPP from China.² The final phase of the investigations was scheduled by the Commission following notification of a preliminary determination by Commerce that imports of DKP, MKP, and TKPP from China were being sold at LTFV and subsidized within the meaning of sections 733(b) and 703(b) of the Act (19 U.S.C. § 1671b(b)). Notice of the scheduling of the final phase of the Commission's investigations and of a public hearing to be held in connection therewith was given by posting copies of the notice in the Office of the Secretary, U.S. International Trade Commission, Washington, DC, and by publishing the notice in the Federal Register of April 1, 2010 (Certain Potassium Phosphate Salts from China, 75 FR 16509). The hearing was held in Washington, DC, on June 2, 2010, and all persons who requested the opportunity were permitted to appear in person or by counsel.

² The Commission unanimously determined that there was no reasonable indication that an industry in the United States was materially injured or threatened with material injury by reason of subject imports of STPP from China alleged to be sold at less than fair value and subsidized by the Government of China. Certain Sodium and Potassium Phosphate Salts from China: Determinations, 74 FR 61173, November 23, 2009.

The Commission transmitted its determination in these investigations to the Secretary of Commerce on July 15, 2010. The views of the Commission are contained in USITC Publication 4171 (July 2010), entitled Certain Potassium Phosphate Salts From China: Investigation Nos. 701-TA-473 and 731-TA-1173 (Final).

By order of the Commission.
Issued: July 15, 2010.
Marilyn R. Abbott,
Secretary to the Commission.

[FR Doc. 2010-17863 Filed 7-21-10; 8:45 am]

BILLING CODE 7020-02-P